DEPARTMENT OF COMMERCE

National Telecommunications and Information Administration

First Responder Network Authority: Public Combined Committees and Board Meeting

AGENCY: First Responder Network Authority (FirstNet Authority), National Telecommunications and Information Administration, U.S. Department of Commerce.

ACTION: Notice of open public meeting of the FirstNet Authority Board.

SUMMARY: The FirstNet Authority Board will convene an open public meeting of the Board and the Board Committees on Thursday, March 19, 2020.

DATES: A joint meeting of the four (4) FirstNet Authority Board Committees and the FirstNet Authority Board will be held on Thursday, March 19, 2020 between 11:00 a.m. and 1:00 p.m. Eastern Standard Time (EST). The meeting of the FirstNet Authority Board and the Governance and Personnel, Network and Technology, Advocacy, and Finance Committees will be open to the public from 11:00 a.m. to 1:00 p.m. (EST).

ADDRESSES: The public meeting will be conducted via teleconference and WebEx only. Members of the public may listen to the meeting by dialing toll-free: 1-888-982-7296 and enter participant code 3161488#.

To view the slide presentation, the public may visit the URL: https://www.mymeetings.com/nc/join/ and enter Conference Number: PWXW9653105 and Audience Passcode: 3161488. Alternatively, members of the public may view the slide presentation by directly visiting the URL: https://www.mymeetings.com/nc/join.php?i=PWXW9653105&p=3161488&t=c.

FOR FURTHER INFORMATION CONTACT: Jennifer Watts, Acting Board Secretary, FirstNet Authority, 12201 Sunrise Valley Drive, M/S 243, Reston, VA 20192; telephone: (571) 665-6178; email: Jennifer.Watts@Firstnet.gov. Please direct media inquiries to Ryan Oremland at: (571) 665-6186.

SUPPLEMENTARY INFORMATION: This notice informs the public that the FirstNet Authority Board and the Board Committees will convene an open public meeting via teleconference and WebEx only on Thursday, March 19, 2020.

Background: The Middle Class Tax Relief and Job Creation Act of 2012 (Pub. L. 112-96, Title VI, 126 Stat. 256 (codified at 47 U.S.C. 1401 et seq.)) (Act) established the FirstNet Authority as an independent authority within the National Telecommunications and Information Administration that is headed by a Board. The Act directs the FirstNet Authority to ensure the building, deployment, and operation of a nationwide, interoperable public safety broadband network. The FirstNet Authority Board is responsible for making strategic decisions regarding the FirstNet Authority's operations. The FirstNet Authority Board held its first public meeting on September 25, 2012.

Matters to be Considered: The FirstNet Authority will post a detailed agenda for the Combined Board Committees and Board Meeting on FirstNet.gov prior to the meeting. The agenda topics are subject to change. Please note that the subjects that will be discussed by the Committees and the Board may involve commercial or financial information that is privileged or confidential, or other legal matters affecting the FirstNet Authority. As such, the Committee Chairs and Board Chair may call for a vote to close the meetings only for the time necessary to preserve the confidentiality of such information, pursuant to 47 U.S.C. 1424(e)(2).

Times and Dates of Meeting: A public combined meeting of the FirstNet Authority Board and FirstNet Authority Board Committees will be held on Thursday, March 19, 2020 between 11:00 a.m. and 1:00 p.m. (EST). The meeting of the FirstNet Authority Board and the Governance and Personnel, Network and Technology, Advocacy, and Finance Committees will be open to the public via teleconference and WebEx from 11:00 a.m. to 1:00 p.m. (EST). The times listed above are subject to change. Please refer to FirstNet.gov for the most up-to-date information.

Location: The public combined Board and Board Committee meetings will be conducted via teleconference and WebEx on Thursday, March 19, 2020. Members of the public may listen to the meeting by dialing toll-free: 1-888-982-7296 and enter participant code 3161488#.

Other Information: The public combined Board and Board Committee meetings open to the public via teleconference and WebEx only. On the date and time of the meeting, members of the public may listen to the meeting by dialing toll-free: 1-888-982-7296 and enter participant code 3161488#.

The public combined Board and Board Committees meetings are accessible to people with disabilities. Individuals requiring accommodations, such as sign language interpretation or other ancillary aids, are asked to notify Mrs. Watts by telephone at (571) 665-6178 or email: Jennifer.Watts@firstnet.gov at least five (5) business days (March 12) before the applicable meeting.

To be connected to the meetings in listen-only mode by telephone, please dial toll-free: 1-888-982-7296 and enter participant code 3161488#. If you experience technical difficulty, please contact the Conferencing Center Customer Service at: 1-866-900-1011.

Records: The FirstNet Authority maintains records of all Board proceedings. Minutes of the Board meeting and Committee meetings will be available on FirstNet.gov.

Dated: March 11, 2020.
Jennifer Watts,
Acting Board Secretary, FirstNet Authority.

[FR Doc. 2020-05227 Filed 3-13-20; 8:45 am]

BILLING CODE 3510-TL-P